DEPARTMENT OF HEALTH AND HUMAN SERVICES

Office of the Secretary

Agency Information Collection Activities; Proposed Collections; Comment Request

The Department of Health and Human Services, Office of the Secretary will periodically publish summaries of proposed information collections projects and solicit public comments in compliance with the requirements of Section 3506(c)(2)(A) of the Paperwork Reduction Act of 1995. To request more information on the project or to obtain a copy of the information collection plans and instruments, call the OS Report Clearance Officer on (202) 690-6207.

Comments are invited on: (a) Whether the proposed collection of information is necessary for the proper performance of the functions of the agency, including whether the information shall have practical utility; (b) The accuracy of the agency's estimate of the burden of the proposed collection of information; (c) Ways to minimize the burden of the collection of information on respondents, including through the use of automated collection techniques or other forms of information technology.

Proposed Project 1. Analysis of Guidelines for the Conduct of Research Adopted by Medical Schools or their Components—NEW—The Office of Research Integrity (ORI) is responsible for ensuring the integrity of the research supported by the Public Health Service. Section 493 of the Public Health Act, provides that the Secretary by regulation shall require that each entity which applies for a grant, contract or cooperative agreement which involves the conduct of biomedical or behavioral research shall establish policies and procedures to review, investigate and report allegations of research misconduct in connection with the research conducted at or sponsored by the applicant institute with PHS supported funds. ORI plans on requesting copies of the guidelines for the conduct of research adopted by accredited medical schools in the United States. ORI will use the information to develop technical assistance materials and an instructional workshop which will assist medical schools in formulating guidelines. Respondents: State and Local governments; Businesses or other for-profit; non-profit institutions—Burden Information for Solicitation—Number of Respondents: 125; Burden per Response: .25 hours; Total Burden for Solicitation: 31 hours; Burden Information for Check List—Number of Respondents: 125; Burden per Response: 1 hour; Total Burden for Check List: 125 hours; Burden Information for Telephone Calls—Number of Respondents: 13; Burden per Response: .625 hours; Total Burden for telephone calls: 16 hours; Total Burden: 172 hours.

Send comments to Cynthia Agens Bauer, OS Reports Clearance Officer, Room 503H, Humphrey Building, 200 Independence Avenue SW., Washington DC, 20201. Written comments should be received within 60 days of this notice

Dated: February 10, 2000.
Dennis P. Williams,
Deputy Assistant Secretary, Budget.

[FR Doc. 00-4278 Filed 2-23-00; 8:45 am]

BILLING CODE 4150-4-M